ENVIRONMENTAL PROTECTION AGENCY

[EPA-HQ-OW-2024-0206; FRL 11920-01-OW]

2024 Clean Water Act Section 319 Guidelines

AGENCY: Environmental Protection Agency (EPA).

ACTION: Notice of availability.

SUMMARY: The U.S. Environmental Protection Agency (EPA) announces revised guidelines for eligible recipients (states, territories, and the District of Columbia) awarded Federal grants under section 319 of the Clean Water Act (CWA) for the implementation of nonpoint source management programs (“2024 Guidelines”). The 2024 guidelines describe the requirements that apply to recipients of grants made with funds appropriated by Congress under the Clean Water Act. These new guidelines will replace the Nonpoint Source Program and Grants Guidelines for States and Territories that have been in effect since the fiscal year 2014 grant cycle. The revisions are intended to advance new science and information, engage communities, and guide the national Nonpoint Source Program.

FOR FURTHER INFORMATION CONTACT: Cynthia Curtis, Watershed Restoration, Assessment, and Protection Division, Office of Water (4503T), Environmental Protection Agency, 1301 Constitution Ave. NW, Washington, DC 20460; telephone number: 202-566-0340; email address: curtis.cynthia@epa.gov. A copy of the guidelines can be found on the Clean Water Act section 319 Grant Guidance website, https://www.epa.gov/nps/cwa-ss319-grant-current-guidance.

SUPPLEMENTARY INFORMATION:

I. General Information

This notice of availability is intended to inform the public and state nonpoint source management programs of the release of the 2024 Guidelines. The revisions to these guidelines were informed by two years of stakeholder engagements with Clean Water Act section 319 grantees, sub-recipients of CWA section 319 funding, local community organizations, and other important stakeholders. Among other changes, these revisions encourage recipients (states, territories, and the District of Columbia) awarded CWA section 319 funds to take actions that ensure equitable access to nonpoint source water quality benefits and advance climate resilient nonpoint source solutions. More information is available on EPA's 2023 nonpoint source Guidelines updates website, https://www.epa.gov/nps/319-grant-historic-guidance. EPA publishes separate CWA section 319 guidelines for Tribal grantees, http://www.epa.gov/nps/tribal. State and Tribal nonpoint source programs include a variety of components, including technical assistance, financial assistance, education, training, technology transfer, demonstration projects, and regulatory programs. Clean Water Act section 319(h) grant funds are provided only to designated state, territorial, and Tribal agencies to implement EPA-approved nonpoint source management programs. More information is available on EPA's websites for 319 Grant Program for States and Territories https://www.epa.gov/nps/319-grant-program-states-and-territories and nonpoint source program equity information, https://www.epa.gov/nps/equity-resources.

If you have questions regarding the applicability of this action to a particular entity, consult the person listed in the FOR FURTHER INFORMATION CONTACT section.

Ann Ferrio,
Deputy Director, Office of Wetlands, Oceans and Watersheds.

[FR Doc. 2024-14277 Filed 6-27-24; 8:45 am]

BILLING CODE 6560-50-P